OFFICE OF MANAGEMENT AND BUDGET

Public Availability of Fiscal Year 2005 Agency Inventories Under the Federal Activities Inventory Reform Act

AGENCY: Office of Management and Budget, Executive Office of the President.

ACTION: Notice of public availability of agency inventory of activities that are not inherently governmental and of activities that are inherently governmental.

SUMMARY: The Federal Activities Inventory Reform (FAIR) Act, Public Law 105-270, requires agencies to develop inventories each year of activities performed by their employees that are not inherently governmental—i.e., inventories of commercial activities. The FAIR Act further requires OMB to review the inventories in consultation with the agencies and publish a notice of public availability in the Federal Register after the consultation process is completed. In accordance with the FAIR Act, OMB is publishing this notice to announce the availability of inventories from the agencies listed below. These inventories identify both commercial activities and activities that are inherently governmental.

Interested parties who disagree with an agency's initial judgment may challenge the inclusion or the omission of an activity on the list of activities that are not inherently governmental within 30 working days and, if not satisfied with this review, may appeal to a higher level within the agency.

This is the second release of inventories for FY 2005. A notice of the first release of FY 2005 inventories was published in the Federal Register on March 14, 2006. See 71 FR 13188-13190. As indicated in OMB's March 2006 notice, the FY 2005 inventory prepared by the Department of Labor (DOL) was released in connection with the first notice of public availability. However, following the initial release of its inventory, DOL made a determination to reclassify certain activities. DOL is making the revisions to its inventory available pursuant to this notice. Since these reclassifications were not made in response to a challenge or appeal, they are considered to be an initial judgment of the agency.

The Office of Federal Procurement Policy has made available a FAIR Act User's Guide through its Internet site: http://www.whitehouse.gov/omb/procurement/fair-index.html. This User's Guide will help interested parties review FY 2005 FAIR Act inventories.

Rob Portman,
Director.

Attachment.—Second Fair Act Release FY 2005
Advisory Council on Historic Preservation | Mr. Ralston Cox, (202) 606-8528; www.achp.gov.
Appalachian Regional Commission | Mr. Guy Land, (202) 884-7674; www.arc.gov.
Architectural and Transporation Barriers Compliance Board | Mr. Larry Roffee, (202) 272-001; www.access-board.gov.
Arlington National Cemetery | Mr. Rory Smith, (703) 6078561; www.arlingtoncemetery.org.
Armed Forces Retirement Home | Mr. Steven G. McManus, (202) 730-3533; www.afrh.com.
Barry Goldwater Scholarship Education Foundation | Mr. Gerald Smith, (703) 765-6012; www.act.org/goldwater.
Broadcasting Board of Governors | Mr. Stephen Smith, (202) 203-4588; www.bbg.gov.
Christopher Columbus Fellowship Foundation | Ms. Judith M. Shellenberger, (315) 258-0090; www.whitehouse.gov/omb/procurement/fair_list_nosite.html.
Committee for Purchase from People Who are Blind or Severely Disabled | Mr. Leon Wilson, (703) 604-7740; www.jwod.gov.
Consumer Product Safety Commission | Mr. Edward Quist, (301) 504-7644; www.cpsc.gov.
Department of Agriculture | Ms. Ava Lee, (202) 720-1179; www.usda.gov/ocfo.
Department of Agriculture (IG) | Mr. Rod DeSmet, (202) 720-6979; www.usda.gov/oig/rptsbulletins.htm.
Department of Commerce | Mrs. Maile Arthur, (202) 482-1574; www.doc.gov.
Department of Homeland Security | Mr. David Childs, (202) 772-9785; www.dhs.gov/dhspublic/interapp/editorial/editorial_0504.xml.
Department of Labor | Mr. Al Stewart, (202) 693-4028; www.dol.gov.
Department of Veterans Affairs | Ms. Julie R. Gough, (202) 273-5048; www.va.gov/op3/page.cfm?pg=25.
Federal Communications Commission | Mr. Kent Baum, (202) 418-0137; www.fcc.gov/omd/reports.html.
Federal Communications Commission (IG) | Mr. David Hunt, (202) 418-1522; www.fcc.gov/oig.
Federal Election Commission | Ms. Tina VanBrakle, (202) 694-1006; www.fec.gov/pages/fair.shtml.
Federal Energy Regulatory Commission | Ms. Kimberly Fernandez, (202) 502-8302; www.ferc.gov
Federal Labor Relations Authority | Ms. Jill Crumpacker, (202) 218-7900; www.flra.gov.
Federal Maritime Commission | Mr. Bruce Dobrowski, (202) 523-5800; www.fmc.gov/reading/FairActSubmissionIntro.asp.
Federal Mine Safety and Health Review Commission | Mr. Richard Baker, (202) 434-9905; www.fmshrc.gov.
Federal Retirement Thrift Investment Board | Mr. Richard White, (202) 942-1633; www.frtib.gov.
General Services Administration | Mr. Paul Boyle, (202) 501-0324; www.gsa.gov.
Harry S. Truman Scholarship Foundation | Ms. Tonji Wade, (202) 395-6995; www.truman.gov/statements/statements_show.htm?doc_id=248726.
Institute of Museum and Library Services | Ms. Teresa LaHaie, (202) 653-4633; www.imls.gov.
International Trade Commission | Mr. Stephen McLaughlin, (202) 205-3131; www.usitc.gov.
James Madison Memorial Fellowship Foundation | Mr. Steve Weiss, (202) 653-6109; www.jamesmadison.com.
Japan-United States Friendship Commission | Ms. Margaret Mihori, (202) 653-9800; office.jusfc.gov/commissn/FAIRAct.htm.
Merit Systems Protection Board | Ms. Deborah Miron, (202) 653-6772 x 1168; www.mspb.gov.
National Commission of Libraries and Information Sciences | Ms. Madeleine McCain, (202) 606-9200; www.nclis.gov.
National Council on Disability | Ms. Ethel Briggs, (202) 272-2004; www.ncd.gov.
National Gallery of Art | Mr. William W. McClure, (202) 312-2760; www.nga.gov/xio/treasurer.shtm.
Office of Federal Housing Enterprise Oversight | Ms. Jill Weide, (202) 414-3813; www.ofheo.gov.
Office of Government Ethics | Mr. Sean Donohue, (202) 482-9231; www.usoge.gov.
Office of Management and Budget | Ms. Lauren Wright, (202) 395-3970; www.whitehouse.gov/omb/procurement/fair/notices_avail.html.
Office of Navajo and Hopi Indian Relocation | Ms. Nancy Thomas, (928) 779-2721; www.whitehouse.gov/omb/procurement/ fair_list_nosite.html.
Office of Science and Technology Policy | Mr. Mark D. Hodge, (202) 456-6000; www.ostp.gov.
Peace Corps | Ms. Janice Hagginbothom, (202) 692-1655; www.peacecorps.gov/index.cfm?shell=pchq.policies.docs.
Security and Exchange Commission | Mr. Jeffrey Risinger, (202) 551-7446; www.sec.gov.
Smithsonian Institution | Ms. Alice Maroni, (202) 275-2020; www.si.edu.
U.S. Commission on Civil Rights | Ms. TinaLouise Martin, (202) 376-8364; www.uscer.gov.
White House Commision of National Moment of Remembrance | Ms. Tina Harmon, (512) 460-5220; www.whitehouse.gov/omb/procurement/fair_list_nosite.html.

[FR Doc. 06-6108 Filed 7-10-06; 8:45 am]

BILLING CODE 3110-01-M